DEPARTMENT OF EDUCATION

[CFDA No. 84.328C]

Office of Special Education and Rehabilitative Services; Special Education—Training and Information for Parents of Children with Disabilities—Community Parent Resource Centers

ACTION: Notice inviting applications for new awards for fiscal year (FY) 2004; correction and re-opening.

SUMMARY: On March 10, 2004, we published in the Federal Register (69 FR 11400) a notice inviting applications and providing other information for the Community Parent Resource Centers FY 2004 grant competition authorized under the Individuals with Disabilities Education Act, as amended (IDEA).

On page 11401, first column, under paragraph (b) of the Competitive Preference Priorities section, the references to Empowerment Zones or Enterprise Communities are corrected to read “Empowerment Zones, Enterprise Communities or Renewal Communities”.

In order to provide an opportunity for an applicant from a Renewal Community to submit its application, this notice also reopens the Community Parent Resource Centers FY 2004 grant competition and invites additional applications from any eligible applicant.

Deadline for Transmittal of Applications: May 3, 2004.

FOR FURTHER INFORMATION CONTACT: Lisa Gorove, U.S. Department of Education, 400 Maryland Avenue, SW., room 4630, Switzer Building, Washington, DC 20202-2550. Telephone: (202) 205-5045.

If you use a telecommunications device for the deaf (TTD), you may call the Federal Information Relay Service (FIRS) at 1-800-877-8339.

Individuals with disabilities may obtain this document in an alternative format (e.g., Braille, large print, audiotape, or computer diskette) on request by contacting the following office: The Grants and Contracts Services Team, U.S. Department of Education, 400 Maryland Avenue, SW., room 3317, Switzer Building, Washington, DC 20202-2550. Telephone: (202) 205-8207.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: April 21, 2004.
Troy R. Justesen,
Acting Deputy Assistant Secretary for Special Education and Rehabilitative Services.

[FR Doc. 04-9446 Filed 4-23-04; 8:45 am]

BILLING CODE 4000-01-P